FEDERAL RESERVE SYSTEM

Agency Information Collection Activities: Announcement of Board Approval Under Delegated Authority and Submission to OMB; Correction

This notice corrects a notice published on pages 77022-77023 of the issue for December 22, 2006.

Summary:

Background

Notice is hereby given of the final approval of proposed information collection(s) by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

For Further Information Contact: Federal Reserve Board Clearance Officer—Michelle Long—Division of Research and Statistics, Board of Governors of the Federal Reserve System, Washington, DC 20551 (202-452-3829).

OMB Desk Officer—Mark Menchik—Office of Information and Regulatory Affairs, Office of Management and Budget, New Executive Office Building, Room 10235, Washington, DC 20503, or e-mail to mmenchik@omb.eop.gov.

Final approval under OMB delegated authority of the extension for three years, with revision, of the following report:

Report title: Consolidated Bank Holding Company Report of Equity Investments in Nonfinancial Companies, and the Annual Report of Merchant Banking Investments Held for an Extended Period.

Agency form number: FR Y-12 and FR Y-12A, respectively.

OMB Control number: 7100-0300.

Effective Date: December 31, 2006.

Frequency: FR Y-12, quarterly and semiannually; FR Y-12A, annually.

Reporters: Bank holding companies, financial holding companies.

Annual reporting hours: FR Y-12, 1,824; FR Y-12A, 105.

Estimated average hours per response: FR Y-12, 16; FR Y-12A, 7.

Number of respondents: FR Y-12, 30; FR Y-12A, 15.

General description of report: This collection of information is mandatory pursuant to Section 5(c) of the Bank Holding Company Act (12 U.S.C. 1844(c)). The FR Y-12 data are not considered confidential. However, bank holding companies may request confidential treatment for any information that they believe is subject to an exemption from disclosure under the Freedom of Information Act (“FOIA”), 5 U.S.C. 552(b). The FR Y-12A data would be considered confidential on the basis that disclosure of specific commercial or financial data relating to investments held for extended periods of time could result in substantial harm to the competitive position of the financial holding company pursuant to the FOIA (5 U.S.C. 552(b)(4) and (b)(8)).

Abstract: The FR Y-12 collects data from certain domestic bank holding companies on their equity investments in nonfinancial companies on four schedules: Type of Investments, Type of Security, Type of Entity within the Banking Organization, and Nonfinancial Investment Transactions during Reporting Period. The FR Y-12 data serve as an important risk-monitoring device for institutions active in this business line by allowing the Federal Reserve to monitor an institution's activity between review dates. It also serves as an early warning mechanism to identify institutions whose activities in this area are growing rapidly and therefore warrant special supervisory attention.

Current Actions: On August 31, 2006, the Federal Reserve published a notice in the Federal Register (71 FR 51828) requesting public comment for sixty days on the extension, without revision, of the Consolidated Bank Holding Company Report of Equity Investments in Nonfinancial Companies and the implementation of the Annual Report of Merchant Banking Investments Held for an Extended Period. The comment period for this notice expired on October 30, 2006, and the Federal Reserve received two comment letters.

A subsidiary of a financial holding company (FHC) commented on the Federal Reserve Board and U.S. Department of Treasury regulations concerning Merchant Banking Holding Periods that went into effect February 12, 2001; however, the comment was outside the scope of the proposal.

A FHC requested two modifications to the FR Y-12 instructions concerning warrants, their acquisition cost, and the potential difficulty in determining their fair value. As a result, the Federal Reserve clarified definition of warrants in the Glossary. This same FHC suggested re-titling FR Y-12 Schedule D, data item 1; however, the Federal Reserve did not accept this suggestion.

Board of Governors of the Federal Reserve System, December 22, 2006.
Jennifer J. Johnson,
Secretary of the Board.

[FR Doc. E6-22315 Filed 12-28-06; 8:45 am]

BILLING CODE 6210-01-P